DEPARTMENT OF HOUSING AND URBAN DEVELOPMENT

24 CFR Part 200

[Docket No. FR-5850-N-02]

Retrospective Review—Improving the Previous Participation Reviews of Prospective Multifamily Housing and Healthcare Program Participants Informational Conference Call

AGENCY: Office of the Assistant Secretary for Housing—Federal Housing Commissioner, HUD.

ACTION: Notice.

SUMMARY: Through this notice, HUD announces that it will be holding a conference call on September 16, 2015, to discuss HUD's previous participation review process and solicit feedback on how this process can be improved. On August 10, 2015, HUD published a proposed rule to revise its regulations governing the previous participation review process that is applied to certain entities seeking to take part in multifamily housing and healthcare programs administered by HUD's Office of Housing. HUD's goal in revising the regulations is to simplify the process by which HUD currently reviews the previous participation of participants that have decision-making authority over their projects as one component of HUD's responsibility to assess financial and operational risk to the projects in these programs.

DATES: The teleconference call will be held on September 16, 2015, commencing at 11:30 a.m., EDT.

ADDRESSES: Because this is a conference call, there is no meeting venue. Current and prior multifamily housing and healthcare programs' participants interested in participating in the conference call can register for the call at HUD's Web site at www.hud.gov/emarc as can other interested members of the public.

FOR FURTHER INFORMATION CONTACT: Aaron Hutchinson, Office of Housing, Department of Housing and Urban Development, 451 7th Street SW., Room 6178, Washington, DC 20410; telephone number 202-708-3994 (this is not a toll-free number). Individuals with speech or hearing impairments may access this number through TTY by calling the toll-free Federal Relay Service at 800-877-8339 (this is not a toll-free number).

SUPPLEMENTARY INFORMATION:

Background

HUD's regulations governing the assessment of previous participation are codified in 24 CFR part 200, subpart H (Subpart H),¹ and require applicants to complete a very detailed and lengthy certification form (HUD Form 2530).² The 2530 form currently requires disclosure of all principals to be involved in the proposed project, a list of projects in which those principals have previously participated or currently participate in, a detailed account of the principals' involvement in the listed project(s), and assurances that the principals have upheld their responsibilities while participating in those programs. The regulations govern not only the content of the certification submitted by applicants, but the types of parties that must certify, and the process for submitting the certification.

¹ See http://www.gpo.gov/fdsys/pkg/CFR-2014-title24-vol2/pdf/CFR-2014-title24-vol2-part200-subpartH.pdf.

² See http://portal.hud.gov/hudportal/documents/huddoc?id=2530.pdf.

Participants in HUD's multifamily housing and healthcare programs have long complained about the delays with HUD's previous participation review process because of the number of required principals that must complete the form and the overly detailed information required to be submitted, and HUD is committed to improving the process. HUD has commenced steps to strive to improve the previous participation process and on August 10, 2015, at 80 FR 47874, HUD published a proposed rule, entitled “Retrospective Review—Improving the Previous Participation Reviews of Prospective Multifamily Housing and Healthcare Programs Participants.” ³

³ See http://www.gpo.gov/fdsys/pkg/FR-2015-08-10/pdf/2015-19529.pdf.

Conference Call

To aid HUD in the goal to revise the previous participation regulations so that the review process is effective but also expedient and less burdensome, HUD seeks input in the form of public comment on how the process can be simplified but protects the Federal Housing Administration from undue financial risk.

Opportunity for Additional Feedback

Comments on HUD's proposed rule can be submitted through the www.regulations.gov portal at http://www.regulations.gov/#!docketDetail;D=HUD-2015-0068. HUD encourages all interested parties, including those participating in the conference call to submit comments to HUD through this portal. Comments submitted are publicly available to the public.

Dated: September 2, 2015.
Genger Charles,
General Deputy Assistant Secretary for Housing.

[FR Doc. 2015-22762 Filed 9-9-15; 8:45 am]

BILLING CODE 4210-67-P